BUREAU OF CONSUMER FINANCIAL PROTECTION

[Docket No. CFPB-2011-0044]

Privacy Act of 1974, as Amended

AGENCY: Bureau of Consumer Financial Protection.

ACTION: Notice of Proposed Privacy Act System of Records.

SUMMARY: In accordance with the Privacy Act of 1974, as amended, the Bureau of Consumer Financial Protection, hereinto referred to as the Consumer Financial Protection Bureau (CFPB), gives notice of the establishment of this updated Privacy Act System of Records.¹

¹ Section 1066 of the Act grants the Secretary of the Treasury interim authority to perform certain functions of the CFPB. Pursuant to that authority, Treasury publishes this Notice on behalf of the CFPB.

DATES: Comments must be received no later than January 20, 2012. The new database will be effective January 30, 2012 unless the comments received result in a contrary determination.

ADDRESSES: You may submit comments, identified by Docket No. CFPB-2011-0044, by any of the following methods:

• Electronic: http://www.regulations.gov. Follow the instructions for submitting comments.

• Mail: Claire Stapleton, Chief Privacy Officer, Consumer Financial Protection Bureau, 1700 G Street NW., Washington, DC 20006.

• Hand Delivery/Courier in Lieu of Mail: Claire Stapleton, Chief Privacy Officer, Consumer Financial Protection Bureau, 1700 G Street NW., Washington, DC 20006.

FOR FURTHER INFORMATION CONTACT: Claire Stapleton, Chief Privacy Officer, Consumer Financial Protection Bureau, 1700 G Street NW., Washington, DC 20006, (202) 435-7220.

SUPPLEMENTARY INFORMATION: The Dodd-Frank Wall Street Reform and Consumer Protection Act (“Act”), Public Law 111-203, Title X, established the CFPB. The CFPB administers, enforces, and implements Federal consumer financial laws, and, among other powers, has authority to protect consumers from unfair, deceptive, and abusive practices when obtaining consumer financial products or services. The new system of records described in this notice, CFPB.011—Correspondence Tracking Database, will track and process controlled correspondence. The Correspondence Tracking Database will allow the CFPB to keep track of official correspondence while it is being actively handled.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The CFPB implementation team under Treasury previously published a system of records notice (“SORN”) for the Correspondence Database Treasury/DO .318 in the Federal Register, 76 FR 14834, June 14, 2011.

The system of records entitled, “CFPB.011—Correspondence Tracking Database” replaces the previously published SORN and is published in its entirety below.

Dated: December 15, 2011.
Claire Stapleton,
Chief Privacy Officer.

CFPB.011

System Name:

CFPB Correspondence Tracking Database.

System Location:

Consumer Financial Protection Bureau, 1700 G Street NW., Washington, DC 20006

Categories of individuals covered by the system:

Individuals covered by this system are those whose correspondence is submitted to the CFPB and members of the CFPB assigned to help process, review and/or respond to the correspondence.

Categories of records in the system:

Records maintained in the database may contain (1) Correspondence (including, without limitation, official letters, memoranda, faxes, telegrams, and emails) received and sent; (2) mailing lists of correspondence submitters; (3) identifying information regarding both the individual who is submitting the correspondence or the individual or entity on whose behalf such correspondence is submitted, such as the individual's name, phone number, address, email address, and any other disclosed identifiable information; (4) information concerning the CFPB employees responsible for processing the correspondence; (5) correspondence disposition information; (6) correspondence tracking dates; and (7) internal office assignment information. Supporting records may include correspondence between the CFPB and the individual. Records related to consumer complaints will not be contained in this system.

Authority for maintenance of the system:

Public Law 111-203, Title X, Sections 1011, 1012, 1013, codified at 12 U.S.C. 5491, 5492, 5493.²

² Section 1066 of the Act grants the Secretary of the Treasury interim authority to perform certain functions of the CFPB. Pursuant to that authority, Treasury published rules on the Disclosure of Records and Information within 12 CFR Chapter X. This SORN is published pursuant to those rules and the Privacy Act.

Purpose:

The purpose of the Correspondence Tracking Database is to enable the CFPB to track correspondence, including responsibilities for processing, tracking, responding to, or referring sensitive and/or time-critical correspondence for appropriate processing and responsive action.

Routine uses of records maintained in the system, including categories of users and the purposes of such uses:

These records may be disclosed, consistent with the CFPB Confidentiality Rules, promulgated at 12 CFR part 1070 et seq to:

(1) Appropriate agencies, entities, and persons when: (a) the CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another Federal or state agency to: (a) permit a decision as to access, amendment or correction of records to be made in consultation with or by that agency; or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ has agreed to represent the employee; or

(d) The United States, where the CFPB determines that litigation is likely to affect the Treasury or any of its components;

(7) A grand jury pursuant either to a Federal or state grand jury subpoena, or to a prosecution request that such record be released for the purpose of its introduction to a grand jury, where the subpoena or request has been specifically approved by a court. In those cases where the Federal Government is not a party to the proceeding, records may be disclosed if a subpoena has been signed by a judge;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(9) Appropriate agencies, entities, and persons, to the extent necessary to respond to or refer correspondence;

(10) Appropriate Federal, state, local, foreign, tribal, or self-regulatory organizations or agencies responsible for investigating, prosecuting, enforcing, implementing, issuing, or carrying out a statute, rule, regulation, order, policy, or license if the information may be relevant to a potential violation of civil or criminal law, rule, regulation, order, policy or license;

Policies and practices for storing, retrieving, accessing, retaining, and dispensing of records in the system:

Storage:

Records maintained in this system are stored electronically and in file folders. Paper copies of individual records are made by the authorized CFPB staff.

Retrievability:

Records are retrievable by the name of the individual covered by the system, date of correspondence, or correspondence control number or by some combination thereof.

Safeguards:

Access to electronic records is restricted to authorized personnel who have been issued non-transferrable access codes and passwords. Other records are maintained in locked file cabinets or rooms with access limited to those personnel whose official duties require access.

Retention and disposal:

Computer and paper records will be maintained indefinitely until a records disposition schedule is approved by the National Archives and Records Administration.

System manager(s) and address:

Consumer Financial Protection Bureau, Executive Secretary 1700 G Street NW., Washington, DC 20006.

Notification procedure:

Individuals seeking notification and access to any record contained in this database, or seeking to contest its content, may inquire in writing in accordance with instructions appearing in Title 12, Chapter 10 of the CFR, “Disclosure of Records and Information.” Address such requests to: Chief Privacy Officer, Consumer Financial Protection Bureau, 1700 G Street NW., Washington, DC 20006.

Record access procedures:

See “Notification Procedures,” above.

Contesting record procedures:

See “Notification Procedures,” above.

Record source categories:

Information in this system is maintained about individuals who submit correspondence to CFPB and employees assigned to help process, review, or respond to correspondence.

Exemptions claimed for the system:

None.

[FR Doc. 2011-32718 Filed 12-20-11; 8:45 am]

BILLING CODE 4810-AM-P